DEPARTMENT OF ENERGY

Federal Energy Regulatory Commission

Combined Notice of Filings #1

Take notice that the Commission received the following electric corporate filings:

Docket Numbers: EC15-12-000.

Applicants: Catalina Solar 2, LLC.

Description: Supplement to October 17, 2014 Application of Catalina Solar 2, LLC for Authorization under Section 203 of the Federal Power Act.

Filed Date: 11/25/14.

Accession Number: 20141125-5222.

Comments Due: 5 p.m. ET 12/5/14.

Take notice that the Commission received the following electric rate filings:

Docket Numbers: ER10-3097-003.

Applicants: Bruce Power Inc.

Description: Supplement to June 27, 2014 Updated Market Power Analysis for the Northeast Region of Bruce Power Inc.

Filed Date: 11/25/14.

Accession Number: 20141125-5211.

Comments Due: 5 p.m. ET 12/16/14.

Docket Numbers: ER11-3697-000.

Applicants: Southern California Edison Company.

Description: Informational Filing of Notice of Revision to Formula Transmission Rate Annual Update of Southern California Edison Company.

Filed Date: 11/25/14.

Accession Number: 20141125-5208.

Comments Due: 5 p.m. ET 12/16/14.

Docket Numbers: ER12-2178-010; ER14-1524-002; ER13-1536-004; ER12-2528-009; ER12-2311-009; ER12-2201-009; ER12-1829-009; ER12-1223-014; ER11-3989-014; ER11-2016-016; ER11-2014-018; ER11-2013-018; ER11-2011-017; ER11-2010-018; ER11-2009-017; ER11-2007-016; ER11-2005-018; ER10-3308-020; ER10-3027-002; ER10-3025-004; ER10-2192-021; ER10-2184-021; ER10-2183-018; ER10-2182-025; ER10-2181-025; ER10-2180-021; ER10-2179-025; ER10-2178-021; ER10-2172-021; ER14-2144-002; ER11-2056-002; ER10-1143-017; ER10-1080-017; ER10-1081-017; ER10-1078-017; ER10-1048-018; ER10-1020-017; ER14-2145-001.

Applicants: AV Solar Ranch 1, LLC, Baltimore Gas and Electric Company, Beebe 1B Renewable Energy, LLC, Beebe Renewable Energy, LLC, Calvert Cliffs Nuclear Power Plant LLC, Cassia Gulch Wind Park, LLC, CER Generation, LLC,CER Generation II, LLC, Commonwealth Edison Company, Constellation Energy Commodities Group Maine, LLC, Constellation Mystic Power, LLC, Constellation NewEnergy, Inc., Constellation Power Source Generation, LLC, Cow Branch Wind Power LLC, CR Clearing, LLC, Criterion Power Partners, LLC, Exelon Framingham, LLC, Exelon Generation Company, LLC, Exelon New Boston, LLC, Exelon West Medway, LLC, Exelon Wind 4, LLC, Exelon Wyman, LLC, Fourmile Wind Energy, LLC, Handsome Lake Energy, LLC, Harvest WindFarm, LLC, Harvest II Windfarm, LLC, High Mesa Energy, LLC, Integrys Energy Services, Inc., Integrys Energy Services of New York, Inc., Michigan Wind 1, LLC, Michigan Wind 2, LLC, Nine Mile Point Nuclear Station, LLC, PECO Energy Company, R.E. Ginna Nuclear Power Plant, LLC, Shooting Star Wind Project, LLC, Tuana Springs Energy, LLC, Wildcat Wind, LLC, Wind Capital Holdings, LLC.

Description: Notice of Non-Material Change in Status of the Integrys and Exelon MBR Entities under ER12-2178, et. al.

Filed Date: 11/24/14.

Accession Number: 20141124-5286.

Comments Due: 5 p.m. ET 12/15/14.

Docket Numbers: ER14-1224-002.

Applicants: Duke Energy Carolinas, LLC.

Description: Tariff Amendment per 35.17(b): Amendment to PMPA NITSA OATT SA 355 to be effective 1/1/2014.

Filed Date: 11/24/14.

Accession Number: 20141124-5224.

Comments Due: 5 p.m. ET 12/15/14.

Docket Numbers: ER14-2399-003.

Applicants: Southwest Power Pool, Inc.

Description: Tariff Amendment per 35.17(b): Amendment in ER14-2399—Attachment AE (MPL) Section 7.1.1 to be effective 9/8/2014.

Filed Date: 11/25/14.

Accession Number: 20141125-5261.

Comments Due: 5 p.m. ET 12/16/14.

Docket Numbers: ER14-2982-001.

Applicants: Millennium Power Partners, L.P.

Description: Compliance filing per 35: Additional Revisions to Change in Stations to be effective 11/26/2014.

Filed Date: 11/25/14.

Accession Number: 20141125-5055.

Comments Due: 5 p.m. ET 12/16/14.

Docket Numbers: ER15-27-001.

Applicants: New Athens Generating Company, LLC.

Description: Tariff Amendment per 35.17(b): Additional Revisions to MBR Tariff to be effective 11/24/2014.

Filed Date: 11/25/14.

Accession Number: 20141125-5171.

Comments Due: 5 p.m. ET 12/16/14.

Docket Numbers: ER15-255-000.

Applicants: Duke Energy Beckjord Storage, LLC.

Description: Amendment to October 31, 2014 Duke Energy Beckjord Storage, LLC tariff filing.

Filed Date: 11/21/14.

Accession Number: 20141121-5160.

Comments Due: 5 p.m. ET 12/12/14.

Docket Numbers: ER15-470-000.

Applicants: New York Independent System Operator, Inc.

Description: § 205(d) rate filing per 35.13(a)(2)(iii): NYISO 205 filing: tariff revisions credit requirement for external transactions to be effective 2/18/2015.

Filed Date: 11/24/14.

Accession Number: 20141124-5225.

Comments Due: 5 p.m. ET 12/15/14.

Docket Numbers: ER15-470-001.

Applicants: New York Independent System Operator, Inc.

Description: Tariff Amendment per 35.17(b): NYISO amendment errata filing to 11/24/14 tariff revision filing to be effective 2/18/2015.

Filed Date: 11/25/14.

Accession Number: 20141125-5201.

Comments Due: 5 p.m. ET 12/16/14.

Docket Numbers: ER15-471-000.

Applicants: Southwest Power Pool, Inc.

Description: § 205(d) rate filing per 35.13(a)(2)(iii): 1884R3 Westar Energy, Inc. NITSA and NOA to be effective 8/1/2014.

Filed Date: 11/25/14.

Accession Number: 20141125-5069.

Comments Due: 5 p.m. ET 12/16/14.

Docket Numbers: ER15-472-000.

Applicants: Southwest Power Pool, Inc.

Description: § 205(d) rate filing per 35.13(a)(2)(iii): 1885R3 Westar Energy, Inc. (City of Bronson) NITSA and NOA to be effective 8/1/2014.

Filed Date: 11/25/14.

Accession Number: 20141125-5070.

Comments Due: 5 p.m. ET 12/16/14.

Docket Numbers: ER15-473-000.

Applicants: Southwest Power Pool, Inc.

Description: § 205(d) rate filing per 35.13(a)(2)(iii): 1886R3 Westar Energy, Inc. (Doniphan) NITSA and NOA to be effective 8/1/2014.

Filed Date: 11/25/14.

Accession Number: 20141125-5086.

Comments Due: 5 p.m. ET 12/16/14.

Docket Numbers: ER15-474-000.

Applicants: Ocean State Power LLC.

Description: Tariff Withdrawal per 35.15: Ocean State Power II Notice of Cancellation to be effective 11/25/2014.

Filed Date: 11/25/14.

Accession Number: 20141125-5120.

Comments Due: 5 p.m. ET 12/16/14.

Docket Numbers: ER15-475-000.

Applicants: Public Service Company of New Mexico.

Description: § 205(d) rate filing per 35.13(a)(2)(iii): Certificate of Concurrence with TEP's Rate Schedule No. 104 to be effective 12/29/2014.

Filed Date: 11/25/14.

Accession Number: 20141125-5133.

Comments Due: 5 p.m. ET 12/16/14.

Docket Numbers: ER15-476-000.

Applicants: Louisville Gas and Electric Company.

Description: Compliance filing per 35: Order 676_H Section 4 Rev to be effective 2/2/2015.

Filed Date: 11/25/14.

Accession Number: 20141125-5136.

Comments Due: 5 p.m. ET 12/16/14.

Docket Numbers: ER15-477-000.

Applicants: Southwest Power Pool, Inc.

Description: § 205(d) rate filing per 35.13(a)(2)(iii): 1888R3 Westar Energy, Inc. NITSA and NOA to be effective 8/1/2014.

Filed Date: 11/25/14.

Accession Number: 20141125-5153.

Comments Due: 5 p.m. ET 12/16/14.

Docket Numbers: ER15-478-000.

Applicants: MATL LLP.

Description: Compliance filing per 35: NAESB Compliance Filing to be effective 2/2/2015.

Filed Date: 11/25/14.

Accession Number: 20141125-5164.

Comments Due: 5 p.m. ET 12/16/14.

Docket Numbers: ER15-479-000.

Applicants: Southwest Power Pool, Inc.

Description: § 205(d) rate filing per 35.13(a)(2)(iii): 1890R3 Westar Energy, Inc. NITSA and NOA to be effective 8/1/2014.

Filed Date: 11/25/14.

Accession Number: 20141125-5194.

Comments Due: 5 p.m. ET 12/16/14.

Docket Numbers: ER15-480-000.

Applicants: Pacific Gas and Electric Company.

Description: § 205(d) rate filing per 35.13(a)(2)(iii): Shelter Cover Extension Amendment Filing to be effective 12/1/2014.

Filed Date: 11/25/14.

Accession Number: 20141125-5204.

Comments Due: 5 p.m. ET 12/16/14.

Docket Numbers: ER15-481-000.

Applicants: AEP Texas Central Company.

Description: § 205(d) rate filing per 35.13(a)(2)(iii): TCC-EC&R Development PDA to be effective 11/3/2014.

Filed Date: 11/25/14.

Accession Number: 20141125-5248.

Comments Due: 5 p.m. ET 12/16/14.

Take notice that the Commission received the following electric reliability filings:

Docket Numbers: RR14-8-000.

Applicants: North American Electric Reliability Corp.

Description: Errata to September 16, 2014 Petition of the North American Electric Reliability Corporation for Approval of the Bylaws and Reliability Standards Development Procedures of the Western Electricity Coordinating Council.

Filed Date: 11/21/14.

Accession Number: 20141121-5269.

Comments Due: 5 p.m. ET 12/1/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 25, 2014.
Nathaniel J. Davis, Sr.,
Deputy Secretary.

[FR Doc. 2014-28472 Filed 12-3-14; 8:45 am]

BILLING CODE 6717-01-P